NUCLEAR REGULATORY COMMISSION

[NRC-2024-0119]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by August 8, 2024. A request for a hearing or petitions for leave to intervene must be filed by September 9, 2024. This monthly notice includes all amendments issued, or proposed to be issued, from May 24, 2024, to June 20, 2024. The last monthly notice was published on June 11, 2024.

ADDRESSES: You may submit comments by any of the following methods; however, the NRC encourages electronic comment submission through the Federal rulemaking website.

• Federal rulemaking website: Go to https://www.regulations.gov and search for Docket ID NRC-2024-0119. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001, telephone: 301-415-1365; email: Susan.Lent@nrc.gov.

SUPPLEMENTARY INFORMATION:

I. Obtaining Information and Submitting Comments

A. Obtaining Information

Please refer to Docket ID NRC-2024-0119, facility name, unit number(s), docket number(s), application date, and subject when contacting the NRC about the availability of information for this action. You may obtain publicly available information related to this action by any of the following methods:

• Federal Rulemaking website: Go to https://www.regulations.gov and search for Docket ID NRC-2024-0119.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0119, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Braidwood Station, Units 1 and 2; Will County, IL
Docket Nos. | 50-456, 50-457.
Application date | June 4, 2024.
ADAMS Accession No. | ML24156A245.
Location in Application of NSHC | Pages 15-17 of Attachment 1.
Brief Description of Amendments | The proposed amendments would revise Technical Specification Surveillance Requirement 3.7.9.2 to allow an ultimate heat sink temperature of less than or equal to 102.8°F until September 30, 2024.
Proposed Determination | NSHC
Name of Attorney for Licensee, Mailing Address | Jason Zorn, Associate General Counsel, Constellation Energy Generation, LLC, 4300 Winfield Road, Warrenville, IL 60555.
NRC Project Manager, Telephone Number | Joel Wiebe, 301-415-6606.
Constellation Energy Generation, LLC; Braidwood Station, Units 1 and 2, Will County, IL; Byron Station, Unit Nos. 1 and 2, Ogle County, IL
Docket Nos. | 50-454, 50-455, 50-456, 50-457.
Application date | May 24, 2024.
ADAMS Accession No. | ML24145A116.
Location in Application of NSHC | Pages 9 and 10 of Attachment 1.
Brief Description of Amendments | The proposed amendments would remove extraneous detail related to the Best Estimate Analyzer for Core Operations Nuclear software and more closely align with the Standard Technical Specifications, NUREG-1431, Revision 5.
Proposed Determination | NSHC
Name of Attorney for Licensee, Mailing Address | Jason Zorn, Associate General Counsel, Constellation Energy Generation, LLC., 4300 Winfield Road, Warrenville, IL 60555.
NRC Project Manager, Telephone Number | Joel Wiebe, 301-415-6606.
Constellation Energy Generation, LLC; Braidwood Station, Units 1 and 2, Will County, IL; Byron Station, Unit Nos. 1 and 2, Ogle County, IL
Docket Nos. | 50-454, 50-455, 50-456, 50-457.
Application date | April 25, 2024.
ADAMS Accession No. | ML24116A112.
Location in Application of NSHC | Pages 26 and 27 of Attachment 1.
Brief Description of Amendments | The proposed amendments would remove the core operating limits report analytical method 5.6.5.b.5 from the technical specifications.
Proposed Determination | NSHC.
Name of Attorney for Licensee, Mailing Address | Jason Zorn, Associate General Counsel, Constellation Energy Generation, LLC, 4300 Winfield Road, Warrenville, IL 60555.
NRC Project Manager, Telephone Number | Joel Wiebe, 301-415-6606.
Constellation Energy Generation, LLC; Dresden Nuclear Power Station, Units 2 and 3; Grundy County, IL
Docket Nos. | 50-237, 50-249.
Application date | May 8, 2024.
ADAMS Accession No. | ML24129A135.
Location in Application of NSHC | Pages 7-9 of Attachment 1.
Brief Description of Amendments | The proposed amendments request adoption of Technical Specification Task Force (TSTF) Travelers, TSTF-505, Revision 2, “Provide Risk-Informed Extended Completion Times—RITSTF [Risk Informed TSTF] Initiative 4b,” and TSTF-591, “Revise Risk Informed Completion Time (RICT) Program.”.
Proposed Determination | NSHC.
Name of Attorney for Licensee, Mailing Address | Jason Zorn, Associate General Counsel, Constellation Energy Generation, LLC, 4300 Winfield Road, Warrenville, IL 60555.
NRC Project Manager, Telephone Number | Surinder Arora, 301-415-1421.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Waterford Steam Electric Station, Unit 3; St. Charles Parish, LA
Docket Nos. | 50-416, 50-382, 50-458.
Application date | May 7, 2024.
ADAMS Accession No. | ML24128A042.
Location in Application of NSHC | Pages 20—21 of the Enclosure.
Brief Description of Amendments | The proposed amendments would remove License Condition 2.F, which requires the Grand Gulf Nuclear Station, Unit 1, River Bend Station, Unit 1, and Waterford Steam Electric Station, Unit 3 sites to report certain violations of Renewed Facility Operating License Section 2.C within 24 hours to the NRC Operations Center via the emergency notification system with a written follow-up at a later date. The licensee stated that this change is consistent with the notice published in the Federal Register on November 4, 2005 (70 FR 67202), as part of the consolidated line-item improvement process.
Proposed Determination | NSHC.
Name of Attorney for Licensee, Mailing Address | Susan Raimo, Associate General Counsel—Nuclear, 101 Constitution Avenue NW, Washington, DC 20001.
NRC Project Manager, Telephone Number | Mahesh Chawla, 301-415-8371.
Florida Power & Light Company, et al.; St. Lucie Plant, Unit No. 2; St. Lucie County, FL
Docket No. | 50-389.
Application date | April 30, 2024.
ADAMS Accession No. | ML24122A689.
Location in Application of NSHC | Pages 14 and 15 of Enclosure 1.
Brief Description of Amendment | The proposed amendment would revise St. Lucie Plant, Unit No. 2, Technical Specification (TS) 3.7.15, “Spent Fuel Pool Storage,” and TS 4.3, “Fuel Storage,” to support updated spent fuel pool and new fuel vault criticality analyses, which account for the impact of a proposed transition to 24-month fuel cycles on fresh and spent fuel storage.
Proposed Determination | NSHC.
Name of Attorney for Licensee, Mailing Address | Steven Hamrick, Senior Attorney 801 Pennsylvania Ave. NW, Suite 220 Washington, DC 20004.
NRC Project Manager, Telephone Number | Natreon Jordan, 301-415-7410.
NextEra Energy Seabrook, LLC; Seabrook Station, Unit No. 1; Rockingham County, NH
Docket No. | 50-443.
Application date | May 10, 2024.
ADAMS Accession No. | ML24131A152.
Location in Application of NSHC | Pages 6-7 of the Enclosure.
Brief Description of Amendment | The proposed amendment would revise the Seabrook Station, Unit No. 1 Technical Specification (TS) 3.8.1.1.a, “A.C. Sources—Operating,” to provide a one-time allowance to change plant modes from Cold Shutdown (MODE 5) to Startup (MODE 2) while one independent circuit between the offsite transmission network and the onsite Class 1E Distribution System is out of service. NextEra is requesting an additional 384 hours to the TS 3.8.1.1.a 72-hour completion time for a total of 456 hours.
Proposed Determination | NSHC.
Name of Attorney for Licensee, Mailing Address | Steven Hamrick, Senior Attorney 801 Pennsylvania Ave. NW, Suite 220 Washington, DC 20004.
NRC Project Manager, Telephone Number | V. Sreenivas, 301-415-2597.
Tennessee Valley Authority; Watts Bar Nuclear Plant, Unit 1; Rhea County, TN
Docket No. | 50-390.
Application date | April 17, 2024.
ADAMS Accession No. | ML24108A015.
Location in Application of NSHC | Pages E-9—E-11 of the Enclosure.
Brief Description of Amendment | The proposed amendment would revise the expiration date of the Watts Bar Nuclear Plant, Unit 1, Facility Operating License No. NPF-90 to be 40 years from the date that the full-power operating license was issued, rather than the date that the low-power license was issued.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Vistra Operations Company LLC; Beaver Valley Power Station, Units 1 and 2; Beaver County, PA
Docket Nos. | 50-334, 50-412.
Application date | May 7, 2024.
ADAMS Accession No. | ML24129A016.
Location in Application of NSHC | Pages 2-4 of Attachment 1.
Brief Description of Amendments | The proposed amendments would adopt Technical Specification Task Force-569, “Revise Response Time Testing Definition,” which is an approved change to the Improved Standard Technical Specifications, into the Beaver Valley Power Station, Units 1 and 2, Technical Specifications (TSs). The proposed amendments would revise the TS definitions for Engineered Safety Feature Response Time and Reactor Trip System Response Time.
Proposed Determination | NSHC.
Name of Attorney for Licensee, Mailing Address | Rick Giannantonio, General Counsel, Energy Harbor Nuclear Corp.,168 E. Market Street Akron, OH 44308-2014.
NRC Project Manager, Telephone Number | V. Sreenivas, 301-415-2597.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Arizona Public Service Company, et al.; Palo Verde Nuclear Generating Station, Units 1, 2, and 3; Maricopa County, AZ
Docket Nos | 50-528, 50-529, 50-530.
Amendment Date | June 14, 2024.
ADAMS Accession No | ML24129A206.
Amendment Nos | 222 (Unit 1), 222 (Unit 2), and 222 (Unit 3).
Brief Description of Amendment(s) | The amendments revised the Palo Verde Nuclear Generating Station, Units 1, 2, and 3 (Palo Verde) technical specifications (TSs) to adopt Technical Specification Task Force (TSTF) Traveler TSTF-266-A, Revision 3, “Eliminate the Remote Shutdown System Table of Instrumentation and Controls.” Specifically, Arizona Public Service Company (the licensee) deleted TS table 3.3.11-1, “Remote Shutdown System Instrumentation and Controls,” from Palo Verde TS 3.3.11, “Remote Shutdown System,” and placed the content of TS table 3.3.11-1 into licensee-controlled documents.
Public Comments Received as to Proposed NSHC (Yes/No) | No.
Constellation Energy Generation, LLC; Calvert Cliffs Nuclear Power Plant, Units 1 and 2; Calvert County, MD
Docket Nos | 50-317, 50-318.
Amendment Date | May 31, 2024.
ADAMS Accession No | ML24121A180.
Amendment Nos | 350 (Unit 1), 327 (Unit 2).
Brief Description of Amendments | The amendments revised technical specifications to adopt Technical Specifications Task Force (TSTF) Traveler TSTF 59-A, Revision 1, “Incorporate CE [Combustion Engineering] NPSD-994 Recommendations into the SIT [Safety Injection Tanks] Specification,” with plant-specific variations.
Public Comments Received as to Proposed NSHC (Yes/No) | No.
Constellation Energy Generation, LLC; Peach Bottom Atomic Power Station, Unit 1; York County, PA
Docket Nos | 50-171.
Amendment Date | June 11, 2024.
ADAMS Accession No | ML24082A241.
Amendment Nos | 18.
Brief Description of Amendments | The amendment modified License Condition 2.C(1) and Technical Specification Sections 1.0, 2.1(b)1, 2.1(b)6, 2.3(b)1, and 2.3(b)2 to remove restrictions that currently limit decommissioning activities/efforts.
Public Comments Received as to Proposed NSHC (Yes/No) | No.
Dominion Energy Nuclear Connecticut, Inc.; Millstone Power Station, Unit No. 3; New London County, CT
Docket No | 50-423.
Amendment Date | June 4, 2024.
ADAMS Accession No | ML24128A277.
Amendment No | 290.
Brief Description of Amendment | The amendment revised the Millstone Power Station, Unit No. 3, technical specifications (TSs) to update the reactor core safety limits (TS 2.1.1.2), fuel assembly design features (TS 5.3.1), and the list of approved methodologies for the Core Operating Limits Report (TS 6.9.1.6.b) to support the use of Framatome GAIA fuel with M5™ fuel cladding material, which is currently scheduled for insertion into the Millstone Power Station, Unit No. 3, reactor during the spring 2025 refueling outage.
Public Comments Received as to Proposed NSHC (Yes/No) | No.
Duke Energy Progress, LLC; H. B. Robinson Steam Electric Plant, Unit No. 2; Darlington County, SC
Docket No | 50-261.
Amendment Date | June 3, 2024.
ADAMS Accession No | ML24114A015.
Amendment No | 279.
Brief Description of Amendment | The amendment eliminated the dynamic effects of postulated pipe ruptures to auxiliary piping systems attached to the reactor coolant system from the H. B. Robinson Steam Electric Plant, Unit No. 2 design and licensing basis using leak-before-break methodology.
Public Comments Received as to Proposed NSHC (Yes/No) | No.
Duke Energy Progress, LLC; H. B. Robinson Steam Electric Plant, Unit No. 2; Darlington County, SC
Docket No | 50-261.
Amendment Date | October 12, 2023.
ADAMS Accession No | ML23226A086.
Amendment No | 277.
Brief Description of Amendment | The amendment added a Feedwater Isolation on High-High Steam Generator Level function to Table 3.3.2-1 of Technical Specification (TS) 3.3.2, “Engineered Safety Feature Actuation System (ESFAS) Instrumentation,” and removed obsolete content from TSs 2.1.1.1, “Reactor Core SLs [Safety Limits],” and 5.6.5.b, “Core Operating Limits Report (COLR).”
Public Comments Received as to Proposed NSHC (Yes/No) | No.
Energy Northwest; Columbia Generating Station; Benton County, WA
Docket No | 50-397.
Amendment Date | June 12, 2024.
ADAMS Accession No | ML24099A223.
Amendment No | 275.
Brief Description of Amendment | The amendment modified Columbia Generating Station Technical Specification 3.6.2.3, “Residual Heat Removal (RHR) Suppression Pool Cooling,” to allow two RHR suppression pool cooling subsystems to be inoperable for 8 hours. The amendment is consistent with NRC-approved Technical Specifications Task Force (TSTF) Traveler TSTF-230-A, Revision 1, “Add New Condition B to LCO [Limiting Condition for Operation] 3.6.2.3, `RHR Suppression Pool Cooling.' ”
Public Comments Received as to Proposed NSHC (Yes/No) | No.
Energy Northwest; Columbia Generating Station; Benton County, WA
Docket No | 50-397.
Amendment Date | May 31, 2024.
ADAMS Accession No | ML24128A224.
Amendment No | 274.
Brief Description of Amendment | The amendment revised Columbia Generating Station Technical Specification 3.3.6.1, “Primary Containment Isolation Instrumentation,” to remove the requirement that the reactor water cleanup (RWCU) system automatically isolate on manual initiation of the standby liquid control (SLC) system. The SLC system is manually actuated in response to an anticipated transient without scram event. The amendment is based on NRC-approved Technical Specifications Task Force (TSTF) Traveler TSTF-584, “Eliminate Automatic RWCU System Isolation on SLC Initiation.”
Public Comments Received as to Proposed NSHC (Yes/No) | No.
Pacific Gas and Electric Company; Diablo Canyon Nuclear Power Plant, Units 1 and 2; San Luis Obispo County, CA
Docket Nos | 50-275, 50-323.
Amendment Date | May 29, 2024.
ADAMS Accession No | ML24099A219.
Amendment Nos | 245 (Unit 1) and 247 (Unit 2).
Brief Description of Amendments | The amendments revised technical specifications to adopt Technical Specifications Task Force (TSTF) Traveler TSTF-505, Revision 2, “Provide Risk-Informed Extended Completion Times—RITSTF [Risk-Informed TSTF] Initiative 4b.” The changes would prevent unnecessary unit shutdowns for low-risk scenarios.
Public Comments Received as to Proposed NSHC (Yes/No) | No.
PSEG Nuclear LLC; Salem Nuclear Generating Station, Unit Nos. 1 and 2; Salem County, NJ
Docket Nos | 50-272, 50-311.
Amendment Date | May 29, 2024.
ADAMS Accession No | ML24099A157.
Amendment Nos | 348 (Unit 1), 330 (Unit 2).
Brief Description of Amendments | The amendments revised the Salem Nuclear Generating Station, Unit Nos. 1 and 2, Technical Specification 6.8.4.f, “Primary Containment Leakage Rate Testing Program,” by replacing the reference to Regulatory Guide 1.163 with a reference to Nuclear Energy Institute (NEI) Report NEI 94-01, Revision 3-A and the conditions and limitations specified in NEI 94-01, Revision 2-A.
Public Comments Received as to Proposed NSHC (Yes/No) | No.
Susquehanna Nuclear, LLC and Allegheny Electric Cooperative, Inc.; Susquehanna Steam Electric Station, Units 1 and 2; Luzerne County, PA
Docket Nos | 50-387, 50-388.
Amendment Date | May 29, 2024.
ADAMS Accession No | ML24127A226.
Amendment Nos | 288 (Unit 1), 272 (Unit 2).
Brief Description of Amendments | The amendments revised technical specifications to adopt Technical Specifications Task Force (TSTF) Traveler TSTF-563, “Revise Instrument Testing Deficiencies to Incorporate the Surveillance Frequency Control Program,” with plant specific variations.
Public Comments Received as to Proposed NSHC (Yes/No) | No.
Vistra Operations Company LLC; Comanche Peak Nuclear Power Plant, Unit Nos. 1 and 2; Somervell County, TX
Docket Nos | 50-445, 50-446.
Amendment Date | June 10, 2024.
ADAMS Accession No | ML24120A363.
Amendment Nos | 187 (Unit 1) and 187 (Unit 2).
Brief Description of Amendments | The amendments revised the Comanche Peak Nuclear Power Plant, Unit Nos. 1 and 2, Facility Operating License Nos. NPF-87 and NPF-89, respectively, to add a new license condition to allow for the implementation of 10 CFR 50.69, “Risk-informed categorization and treatment of structures, systems and components for nuclear power reactors.”
Public Comments Received as to Proposed NSHC (Yes/No) | No.
Vistra Operations Company LLC; Perry Nuclear Power Plant, Unit 1; Lake County, OH
Docket No | 50-440.
Amendment Date | May 28, 2024.
ADAMS Accession No | ML24124A016.
Amendment No | 204.
Brief Description of Amendment | The amendment revised the technical specifications in accordance with Technical Specifications Task Force (TSTF) Traveler TSTF-264, Revision 0, “3.3.9 and 3.3.10—Delete Flux Monitors Specific Overlap Requirement SRs [Surveillance Requirements].” Specifically, the proposed changes delete SRs 3.3.1.1.6 and 3.3.1.1.7 which verify the overlap between the source range monitor and the intermediate range monitor, and between the intermediate range monitor and the average power range monitor.
Public Comments Received as to Proposed NSHC (Yes/No) | No.

Dated: June 26, 2024.
For the Nuclear Regulatory Commission.
Aida Rivera-Varona,
Deputy Director, Division of Operating Reactor Licensing, Office of Nuclear Reactor Regulation.

[FR Doc. 2024-14417 Filed 7-8-24; 8:45 am]

BILLING CODE 7590-01-P